DEPARTMENT OF ENERGY

Federal Energy Regulatory Commission

Combined Notice of Filings # 1

February 26, 2007.

Take notice that the Commission received the following electric rate filings.

Docket Numbers: ER99-4102-005.

Applicants: Milford Power, LLC.

Description: Milford Power, LLC submits a supplement to its 1/31/07 tariff filing.

Filed Date: 02/16/2007.

Accession Number: 20070221-0037

Comment Date: 5 p.m. Eastern Time on Friday, March 9, 2007.

Docket Numbers: ER00-1952-004; ER04-1208-002; ER03-802-004; ER01-1784-007; ER99-1248-006; ER03-222-006.

Applicants: Black Hills Colorado, LLC; Black Hills Power, Inc.; Black Hill Wyoming, Inc.; Fountain Valley Power, LLC; Harbor Cogeneration Company, LLC; Las Vegas Cogeneration II, LLC.

Description: Black Hills Corporation on behalf of Black Hills Utilities submits amendments to its market-based rate wholesale power sales rate schedules, Order 652.

Filed Date: 02/20/2007.

Accession Number: 20070223-0039.

Comment Date: 5 p.m. Eastern Time on Tuesday, March 13, 2007.

Docket Numbers: ER00-2268-022; EL05-10-000; ER99-4124-018; EL05-11-000; ER00-3312-018; EL05-12-000; ER99-4122-022; EL-5-13-000.

Applicants: Pinnacle West Capital Corporation; Arizona Public Service Company; Pinnacle West Energy Corporation; APS Energy Services, Inc.

Description: Pinnacle West Companies, et al. submit revised simultaneous, import limit studies and delivered price tests to support their request for market-based authority in the APS control area, pursuant to FERC's 12/21/06 Order.

Filed Date: 02/20/2007.

Accession Number: 20070222-0226.

Comment Date: 5 p.m. Eastern Time on Tuesday, March 13, 2007.

Docket Numbers: ER03-1165-002.

Applicants: Energy Cooperative Association of Pennsylvania.

Description: Energy Cooperative Association of Pennsylvania submits its request for acceptance of their FERC Electric Tariff, Original, Volume 1.

Filed Date: 02/20/2007.

Accession Number: 20070222-0073.

Comment Date: 5 p.m. Eastern Time on Tuesday, March 13, 2007.

Docket Numbers: ER05-1410-004; EL05-148-004.

Applicants: PJM Interconnection, LLC.

Description: PJM Interconnection, LLC submits revisions to its PJM OATT and the Reliability Assurance Agreement among Load-Serving Entities in the PJM Region pursuant to FERC's 12/22/06 Order.

Filed Date: 02/20/2007.

Accession Number: 20070222-0071.

Comment Date: 5 p.m. Eastern Time on Tuesday, March 13, 2007.

Docket Numbers: ER06-432-006.

Applicants: Southwest Power Pool, Inc.

Description: Southwest Power Pool, Inc submits its revised tariff language to accommodate the inclusion of the credit policy pursuant to FERC's 1/17/07 Order.

Filed Date: 02/16/2007.

Accession Number: 20070221-0038.

Comment Date: 5 p.m. Eastern Time on Friday, March 9, 2007.

Docket Numbers: ER06-1485-001; ER1485-003; ER07-266-001.

Applicants: Southwestern Public Service Company.

Description: Southwestern Public Service Co submits revised version of Schedule 4A-Reserve Sharing Energy Charges, to its OATT, FERC Electric Tariff, First Revised Volume 1.

Filed Date: 02/23/2007.

Accession Number: 20070226-0037.

Comment Date: 5 p.m. Eastern Time on Friday, March 16, 2007.

Docket Numbers: ER07-61-001.

Applicants: Southern Company Services, Inc.

Description: Southern Company Services, Inc, agent for Alabama Power Co et al submits modifications to the materials included in its 10/24/06, submission of Revision 2-Agreement for Network Integration, Service etc, w/US Department of Energy.

Filed Date: 02/21/2007.

Accession Number: 20070223-0019.

Comment Date: 5 p.m. Eastern Time on Wednesday, March 14, 2007.

Docket Numbers: ER07-99-001.

Applicants: New York Independent System Operator, Inc.

Description: New York Independent System Operator, Inc submits the Report of Operating Reserves Cost Allocation Adjustments for the period of 3/1/05 through 10/24/06.

Filed Date: 02/21/2007.

Accession Number: 20070223-0146.

Comment Date: 5 p.m. Eastern Time on Wednesday, March 14, 2007.

Docket Numbers: ER07-361-001.

Applicants: Ameren Energy Marketing Company; Central Illinois Light Company; Central Illinois Public Service Company; Illinois Power Company; Union Electric Company.

Description: Central Illinois Light Co dba AmerenCILCO et al submits an amendment to their 12/22/06 application proposed to amend their market based rate tariffs to permit certain affiliate power sales transactions.

Filed Date: 02/16/2007.

Accession Number: 20070223-0018.

Comment Date: 5 p.m. Eastern Time on Friday, March 9, 2007.

Docket Numbers: ER07-486-001.

Applicants: Saguaro Power Company, a Ltd. Partnership.

Description: Saguaro Power Co submits a Substitute Original Sheet 1 et al to FERC Electric Tariff, Original Volume 1.

Filed Date: 02/20/2007.

Accession Number: 20070222-0074.

Comment Date: 5 p.m. Eastern Time on Tuesday, March 13, 2007.

Docket Numbers: ER07-531-001.

Applicants: PJM Interconnection, L.L.C.

Description: PJM Interconnection, LLC submits a corrected version of its Wholesale Market Participation Agreement that addresses the typographical errors in the 2/9/07 filing.

Filed Date: 02/22/2007.

Accession Number: 20070223-0307.

Comment Date: 5 p.m. Eastern Time on Thursday, March 15, 2007.

Docket Numbers: ER07-552-000.

Applicants: Hudson Bay Energy Solutions LLC.

Description: Hudson Bay Energy Solutions, LLC submits an application for order accepting initial market-based rate tariff, waiving regulations, and granting blanket approvals etc, effective 3/30/07.

Filed Date: 02/16/2007.

Accession Number: 20070221-0039.

Comment Date: 5 p.m. Eastern Time on Friday, March 09, 2007.

Docket Numbers: ER07-553-000; ER07-554-000; ER07-555-000; ER07-556-000; ER07-557-000.

Applicants: Emera Energy Services Subsidiary No. 1 LLC; Emera Energy Services Subsidiary No. 2 LLC; Emera Energy Services Subsidiary No. 3 LLC; Emera Energy Services Subsidiary No. 4 LLC; Emera Energy Services Subsidiary No. 5 LLC.

Description: Emera Energy Services Subsidiary 1, LLC et al submits a petition for acceptance of initial tariff waivers and blanket authority.

Filed Date: 02/20/2007.

Accession Number: 20070222-0072.

Comment Date: 5 p.m. Eastern Time on Tuesday, March 13, 2007.

Docket Numbers: ER07-558-000.

Applicants: PacifiCorp.

Description: PacifiCorp submits the Facilities Agreement dated 2/1/07 with Flowell Electric Association.

Filed Date: 02/20/2007.

Accession Number: 20070223-0041.

Comment Date: 5 p.m. Eastern Time on Tuesday, March 13, 2007.

Docket Numbers: ER07-559-000.

Applicants: Flat Earth Energy.

Description: Flat Earth Energy, LLC submits a petition for acceptance of initial rate tariff waivers and blanket authority.

Filed Date: 02/21/2007.

Accession Number: 20070223-0042.

Comment Date: 5 p.m. Eastern Time on Wednesday, March 14, 2007.

Docket Numbers: ER07-560-000.

Applicants: KGEN Enterprise LLC.

Description: KGen Power Management Inc submits a Notice of Cancellation of Rate Schedule and a Second Revised Sheet 1 to its market-based rate tariff.

Filed Date: 02/21/2007.

Accession Number: 20070223-0044.

Comment Date: 5 p.m. Eastern Time on Wednesday, March 14, 2007.

Docket Numbers: ER07-561-000.

Applicants: KGen Marshall LLC.

Description: KGen Power Management Inc submits a Notice of Cancellation of Rate Schedule and a Second Revised Sheet 1 to KGen Marshall LLC's market-based rate tariff

Filed Date: 02/21/2007.

Accession Number: 20070223-0043.

Comment Date: 5 p.m. Eastern Time on Wednesday, March 14, 2007.

Docket Numbers: ER07-562-000.

Applicants: Trans-Allegheny Interstate Line Company.

Description: Trans-Allegheny Interstate Line Co submits tariff sheets Exhibit TRC-201 for inclusion in their Open Access Transmission Tariff pursuant to FERC's Orders 679 and 679-A, effective 6/1/07.

Filed Date: 02/21/2007.

Accession Number: 20070223-0015.

Comment Date: 5 p.m. Eastern Time on Wednesday, March 14, 2007.

Take notice that the Commission received the following electric securities filings.

Docket Numbers: ES07-21-000.

Applicants: Entergy Nuclear Palisades, LLC.

Description: Application of Entergy Nuclear Palisades, LLC for Authorization to Issue Securities under ES07-21.

Filed Date: 02/20/2007.

Accession Number: 20070220-5019.

Comment Date: 5 p.m. Eastern Time on Tuesday, March 13, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-3714 Filed 3-1-07; 8:45 am]

BILLING CODE 6717-01-P